DEPARTMENT OF THE INTERIOR

Bureau of Land Management

[NV912-07-1990-PO-241A-006F]

Sierra Front-Northwestern Great Basin Resource Advisory Council; Notice of Meeting Locations and Times

AGENCY: Bureau of Land Management, Interior.

ACTION: Notice of Meeting Locations and Times for the Sierra Front-Northwestern Great Basin Resource Advisory Council (Nevada).

SUMMARY: In accordance with the Federal Land Policy and Management Act and the Federal Advisory Committee Act of 1972 (FACA), two meetings of the U.S. Department of the Interior, Bureau of Land Management (BLM) Sierra Front-Northwestern Great Basin Resource Advisory Council (RAC), Nevada, will be held as indicated below. Topics for discussion at the meetings will include, but are not limited to: manager's reports of field office activities; RAC subcommittee reports; Southern Nevada Public Land Management Act-Round 7 Nominations; Pine Nut Mountain RMP Amendment/DEIS; Winnemucca RMP/DEIS; Alpine County RMP Amendment; Sand Mountain Conservation Strategy; Coer-Rochester Mine Plan/DEIS; Aqua Trac Water Export Project; Echo Canyon Cement Plant Plan; renewable energy projects review; grazing allotment review; and additional topics the council may raise during the meetings.

Dates & Times: The RAC will meet on Wednesday-Thursday, February 7-8, 2007, at the BLM-Carson City Field Office, 5665 Morgan Mill Road, Carson City, Nevada; and on Wednesday-Thursday, July 11-12, 2007, at the BLM-Winnemucca Field Office, 5100 East Winnemucca Blvd., Winnemucca, Nevada. All meetings are open to the public. A general public comment period, where the public may submit oral or written comments to the RAC, will be held on the first day of each two-day meeting at 4 p.m. (February 7 & July 11).

Final agendas, with any additions/corrections to agenda topics, the starting and ending times of each meeting, and details of any planned field trips, will be determined/posted at least two weeks before each two-day meeting on the BLM-Nevada State Office Web site at http://www.nv.blm.gov/rac; hard copies of the agendas can also be mailed or sent via FAX. Individuals who need special assistance such as sign language interpretation or other reasonable accommodations, or those who wish a hard copy of the agenda, should contact Mark Struble, Carson City Field Office, 5665 Morgan Mill Road, Carson City, NV 89701, telephone (775) 885-6107, no later than two weeks before each two-day meeting.

FOR FURTHER INFORMATION CONTACT: Mark Struble, Public Affairs Officer, BLM Carson City Field Office, 5665 Morgan Mill Road, Carson City, NV 89701. Telephone: (775) 885-6107. E-mail: mstruble@nv.blm.gov.

Dated: November 14, 2006.
Don Hicks,
Field Office Manager, BLM-Carson City Field Office.

[FR Doc. E6-19549 Filed 11-17-06; 8:45 am]

BILLING CODE 4310-HC-P